DEPARTMENT OF THE INTERIOR

Bureau of Land Management

[AZ-910-0777-26-241A]

State of Arizona Resource Advisory Council Meeting

AGENCY: Bureau of Land Management, Interior.

ACTION: Arizona Resource Advisory Council meeting notice.

SUMMARY: This notice announces a meeting of the Arizona Resource Advisory Council (RAC).

The business meeting will be held on December 4, 2003, at the Islander RV Resort, 751 Beachcomer Blvd. in Lake Havasu City, Arizona. It will begin at 8 a.m. and conclude at 3 p.m. The agenda items to be covered include: Review of the September 17, 2003, meeting minutes; BLM State Director's Update on Statewide Issues; Presentations on Recreation Opportunities on the Lower Colorado River; Lake Havasu Fisheries Improvement Project, and new Wilderness Planning Guidance, Land Use Planning Updates; RAC Questions on Written Reports from BLM Field Office Managers; Field Office Rangeland Resource Team Proposals; Reports by the Standards and Guidelines, Recreation and Tourism, Public Relations, Land Use Planning, and Wild Horse and Burro Working Groups; Reports from RAC members; and Discussion of future meetings. A public comment period will be provided at 11 a.m. on December 4, 2003, for any interested publics who wish to address the Council.

FOR FURTHER INFORMATION CONTACT: Deborah Stevens, Bureau of Land Management, Arizona State Office, 222 North Central Avenue, Phoenix, Arizona 85004-2203, (602) 417-9215.

Elaine Y. Zielinski,
Arizona State Director.

[FR Doc. 03-28155 Filed 11-7-03; 8:45 am]

BILLING CODE 4310-32-P